DEPARTMENT OF TRANSPORTATION

Federal Aviation Administration

14 CFR Part 39

[Docket No. FAA-2004-19566; Directorate Identifier 2004-NM-72-AD]

RIN 2120-AA64

Airworthiness Directives; Airbus Model A300 B2 and A300 B4 Series Airplanes; and Model A300 B4-600, B4-600R, and F4-600R Series Airplanes, and Model C4-605R Variant F Airplanes (Collectively Called A300-600 Series Airplanes)

AGENCY: Federal Aviation Administration (FAA), Department of Transportation (DOT).

ACTION: Supplemental notice of proposed rulemaking (NPRM); reopening of comment period.

SUMMARY: The FAA is revising an earlier NPRM for an airworthiness directive (AD) that applies to certain Airbus airplanes as listed above. The original NPRM would have required repetitively inspecting for cracking in the web of nose rib 7 of the inner flap on the wings, and performing related investigative/corrective actions if necessary. The original NPRM was prompted by reports of cracking in the web of nose rib 7 of the inner flap. This action revises the original NPRM by adding additional inspections for cracking in the web of nose rib 7 of the inner flap on the wings, and revising compliance times for certain airplanes. We are proposing this supplemental NPRM to detect and correct cracking in the web of nose rib 7, which could result in rupture of the attachment fitting between the inner flap and flap track no. 2, and consequent reduced structural integrity of the flap.

DATES: We must receive comments on this supplemental NPRM by October 11, 2005.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2004-19566; the directorate identifier for this docket is 2004-NM-72-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this supplemental NPRM. Send your comments to an address listed under ADDRESSES. Include “Docket No. FAA-2004-19566; Directorate Identifier 2004-NM-72-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System (DMS) receives them.

Discussion

We proposed to amend 14 CFR part 39 with a notice of proposed rulemaking (NPRM) for an airworthiness directive (AD) (the “original NPRM”). The original NPRM applies to all Airbus Model A300 B2 and A300 B4 series airplanes; and Model A300 B4-600, B4-600R, and F4-600R series airplanes, and Model C4-605R Variant F airplanes (collectively called A300-600 series airplanes). The original NPRM was published in the Federal Register on November 10, 2004 (69 FR 65097). The original NPRM proposed to require repetitively inspecting for cracking in the web of nose rib 7 of the inner flap on the wings, and performing related investigative/corrective actions if necessary.

Since the original NPRM was issued, the Direction Générale de l'Aviation Civile (DGAC), which is the airworthiness authority for France, has notified us of additional crack findings in the rib flange at the junction flange with the flap track.

New Relevant Service Information

Airbus has issued Service Bulletins A300-57-0240 (for Model A300 B2 and B4 series airplanes) and A300-57-6095 (for Model A300-600 series airplanes), both Revision 01, both dated December 2, 2004. (The original NPRM refers to the original issues of those service bulletins, both including Appendix 01, and both dated April 7, 2003), as the acceptable sources of service information for the proposed actions.) These service bulletins describe procedures for performing the following repetitive inspections:

• Using a borescope or endoscope to detect cracking in the vertical stiffeners, and the horizontal flanges between the stiffeners, of nose rib 7.

• Using an eddy current method to detect cracking in the horizontal flanges of the attachment lug root of nose rib 7.

If cracking is found that is within certain limits, the service bulletins specify replacing nose rib 7 with a new, reinforced rib in accordance with Airbus Service Bulletin A300-57-0242 or A300-57-6097, both dated December 18, 2003, as applicable. If cracking is found that is outside the limits, the service bulletins specify contacting Airbus. The procedures in Airbus Service Bulletins A300-57-0242 and A300-57-6097 include related investigative actions of performing high-frequency eddy current inspections or detailed visual inspections, as applicable, to detect cracking in fastener holes and in the upper radii of the skin flanges of the ribs and front spar. If any cracking is found during these inspections, Airbus Service Bulletins A300-57-0242 and A300-57-6097 specify contacting Airbus.

Accomplishing the actions specified in the service information is intended to adequately address the unsafe condition. The DGAC mandated the service information and issued French airworthiness directive F-2005-022, dated February 2, 2005, to ensure the continued airworthiness of these airplanes in France.

Comments

We have considered the following comments on the original NPRM.

Request To Revise Estimated Costs of Compliance

One commenter requests that we increase, from 2 work hours to 5 work hours, our estimate of the time needed to perform the proposed inspection. The commenter states that this estimate is realistic based on its experience, and is also consistent with the estimate specified in Airbus Service Bulletin A300-57-6095.

We partially agree with the commenter's request. We note that the 5-work-hour estimate specified in the original issue of Airbus Service Bulletin A300-57-6095 includes time for getting access and closing up. The cost analysis in AD rulemaking actions, however, typically does not include incidental costs such as the time required to gain access and close up, time necessary for planning, or time necessitated by other administrative actions. Those incidental costs, which may vary significantly among operators, are almost impossible to calculate. We note, though, that the estimated number of work hours for the inspections (not including time for gaining access and closing up) has been increased to 3 work hours in Revision 01 of Airbus Service Bulletins A300-57-0240 and A300-57-6095. We have revised the cost estimate in this supplemental NPRM accordingly.

The same commenter also requests that we revise the estimated costs of compliance to include the estimated cost of replacing the nose rib. The commenter states that its experience shows that the likelihood of crack findings is high. The commenter also states that it has found that 65 work hours are necessary for replacing the rib, and that the replacement necessitates approximately 3 days' out-of-service time. The commenter states that adding this information would more accurately reflect the economic burden imposed by this rule.

We do not agree with the commenter's request to include an estimate of the time needed for replacing the nose rib. The economic analysis of an AD is limited to the cost of actions that are actually required. The economic analysis does not consider the costs of conditional actions, such as an action taken to address a crack found during a required inspection (“repair, if necessary”). Such conditional repairs would be required—regardless of AD direction—to correct an unsafe condition identified in an airplane and to ensure that the airplane is operated in an airworthy condition, as required by the Federal Aviation Regulations. We have not changed the supplemental NPRM in this regard.

We also do not agree with the commenter's request to include the out-of-service time that may result from replacing of the nose rib. Normally, compliance with the AD will not necessitate any additional out-of-service time beyond that of a regularly scheduled maintenance hold. Even if additional out-of-service time is necessary for some airplanes in some cases, we do not have sufficient information to evaluate the number of airplanes that may be so affected or the amount of additional down time that may be required. Therefore, attempting to estimate such costs would not be beneficial. We have not changed the supplemental NPRM in this regard.

Request To Allow Flight With Cracks

One commenter requests that we revise the original NPRM to permit limited flight with a crack of a certain length, as allowed by the DGAC in the parallel French airworthiness directive and by Airbus in the referenced service bulletins. The commenter states that the approach taken by the DGAC and Airbus to allow limited flight with cracks is adequately conservative. The commenter's experience shows that a crack will remain contained in the vertical stiffeners and will not result in any distress or signs of sudden fracture if flights are continued for a limited time.

We disagree with the commenter's request. The original NPRM specified that the proposed AD would not permit further flight if any crack is detected in nose rib 7 due to the safety implications and consequences associated with such cracking. This proposed requirement is in line with FAA policy. We would consider altering this policy only in rare cases of unusual need or hardship, which the commenter did not demonstrate. We have not changed the requirement in this supplemental NPRM.

The same commenter also infers that, because the original NPRM does not contain information on ferry flights, ferry flights are not allowed.

We do not agree with the commenter's inference that ferry flights would not be allowed. On July 10, 2002, the FAA issued a new version of 14 CFR part 39 (67 FR 47997, July 22, 2002), which governs the FAA's airworthiness directives system. The regulation now includes material that relates to special flight permits (e.g., ferry flights), as well as altered products and alternative methods of compliance (AMOCs). Since this information is now included in 14 CFR part 39, information on special flight permits is not included in each individual AD unless there are limitations on special flight permits for an individual AD.

Explanation of Change to Applicability

We have revised the applicability of this supplemental NPRM to identify model designations as published in the most recent type certificate data sheet for the affected models.

FAA's Determination and Proposed Requirements of the Supplemental NPRM

Certain changes discussed above expand the scope of the original NPRM; therefore, we have determined that it is necessary to reopen the comment period to provide additional opportunity for public comment on this supplemental NPRM.

Differences Among the Supplemental NPRM, French Airworthiness Directive, and New Relevant Service Information

For airplanes on which Airbus Service Bulletin A300-57-0242 or A300-57-6097 has not been accomplished, French airworthiness directive F-2005-022 specifies a compliance time for the initial inspection of the later of 5,000 total flight cycles, or 1,000 flight cycles after the effective date of the French airworthiness directive. This supplemental NPRM would base the compliance time for the initial inspection of these airplanes on the total number of flight cycles accumulated as of the effective date of the AD:

• For airplanes with 18,599 or fewer total flight cycles as of the effective date of the AD: the initial inspection would be required before the accumulation of 5,000 total flight cycles, or within 1,000 flight cycles after the effective date of the AD, whichever is later.

• For airplanes with 18,600 or more total flight cycles as of the effective date of this AD: the initial inspection would be required within 500 flight cycles after the effective date of the AD.

The compliance time in this supplemental NPRM is similar to the one proposed in the original NPRM, which was consistent with the compliance time specified in French airworthiness directive 2003-410, dated October 29, 2003 (the parallel French airworthiness directive referenced in the original NPRM, which was superseded by French airworthiness directive F-2005-022, described previously). However, the more restrictive grace period of 500 flight cycles for airplanes with 18,600 total flight cycles or more was not included in French airworthiness directive F-2005-022. We have coordinated this issue with the DGAC and Airbus, and they have informed us that the more restrictive grace period was not included in French airworthiness directive F-2005-022 because the affected airplanes were previously inspected in accordance with French airworthiness directive 2003-410. The DGAC and Airbus agree with our decision to use a compliance time similar to that specified in French airworthiness directive 2003-410.

Also, the service information specifies that you may contact the manufacturer for instructions on how to repair certain conditions, but this supplemental NPRM would require you to repair those conditions using a method that we or the DGAC (or its delegated agent) approve. In light of the type of repair that would be required to address the unsafe condition, and consistent with existing bilateral airworthiness agreements, we have determined that, for this proposed AD, a repair that we or the DGAC approve would be acceptable for compliance with this proposed AD.

Also, the service information and the French airworthiness directive specify reporting inspection findings to Airbus. This supplemental NPRM would not require that action.

Clarification of Inspection Terminology

In this proposed AD, the “detailed visual inspection” specified in Airbus Service Bulletins A300-57-0242 and A300-57-6097 is referred to as a “detailed inspection.” We have included the definition for a detailed inspection in a note in this supplemental NPRM.

Interim Action

We consider this proposed AD interim action. The manufacturer is currently developing a modification that will address the unsafe condition identified in this AD. Once this modification is developed, approved, and available, we may consider additional rulemaking.

Costs of Compliance

This supplemental NPRM would affect about 143 airplanes of U.S. registry. The proposed inspections would take about 3 work hours per airplane, per inspection cycle, at an average labor rate of $65 per work hour. Based on these figures, the estimated cost of this supplemental NPRM on U.S. operators is $27,885, or $195 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-19566; Directorate Identifier 2004-NM-72-AD.

Comments Due Date

(a) The Federal Aviation Administration must receive comments on this AD action by October 11, 2005.

Affected ADs

(b) None.

Applicability

(c) This AD applies to all Airbus Model A300 B2-1A, B2-1C, B2K-3C, B2-203, B4-2C, B4-103, B4-203, B4-601, B4-603, B4-605R, B4-620, B4-622, B4-622R, F4-605R, F4-622R, and C4-605R Variant F airplanes; certificated in any category.

Unsafe Condition

(d) This AD was prompted by reports of cracking in the web of nose rib 7 of the inner flap. We are issuing this AD to detect and correct cracking in the web of nose rib 7, which could result in rupture of the attachment fitting between the inner flap and flap track no. 2, and consequent reduced structural integrity of the flap.

Compliance

(e) You are responsible for having the actions required by this AD performed within the compliance times specified, unless the actions have already been done.

Inspections

(f) Do a detailed inspection, using a borescope or endoscope, for cracking of the vertical stiffeners, and of the horizontal flanges between the stiffeners, of nose rib 7 of the inner flap of the left- and right-hand wings; and do an eddy current inspection to detect cracking in the horizontal flanges of the attachment lug root of nose rib 7 of the inner flap of the left- and right-hand wings; in accordance with the Accomplishment Instructions of Airbus Service Bulletin A300-57-0240 or A300-57-6095, both Revision 01, both dated December 2, 2004, as applicable. Do the initial inspections at the applicable compliance time specified in paragraph (f)(1) or (f)(2) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) For airplanes on which nose rib 7 has not been replaced in accordance with Airbus Service Bulletin A300-57-0242 or A300-57-6097, both dated December 18, 2003: Do the initial inspections at the applicable time specified in paragraph (f)(1)(i) or (f)(1)(ii) of this AD.

(i) For airplanes with 18,599 or fewer total flight cycles as of the effective date of this AD: Prior to the accumulation of 5,000 total flight cycles, or within 1,000 flight cycles after the effective date of this AD, whichever is later.

(ii) For airplanes with 18,600 or more total flight cycles as of the effective date of this AD: Within 500 flight cycles after the effective date of this AD.

(2) For airplanes on which nose rib 7 has been replaced in accordance with Airbus Service Bulletin A300-57-0242 or A300-57-6097, both dated December 18, 2003: Do the initial inspection within 5,000 flight cycles after accomplishing the replacement, or within 1,000 flight cycles after the effective date of this AD, whichever is later.

Repetitive Inspections

(g) If no cracking is found during the inspection required by paragraph (f) of this AD: Repeat the inspection at intervals not to exceed 1,000 flight cycles.

Related Investigative/Corrective Actions

(h) If any cracking is found during any inspection required by paragraph (f) or (g) of this AD: Before further flight, replace nose rib 7 with a new, reinforced rib and do all related investigative actions in accordance with the Accomplishment Instructions of Airbus Service Bulletin A300-57-0242 or A300-57-6097, both dated December 18, 2003, as applicable, except as provided by paragraph (i) of this AD. Then, within 5,000 flight cycles after doing the replacement, do the inspection in paragraph (f) of this AD, and perform repetitive inspections or related investigative/corrective actions as required by paragraphs (g) and (h) of this AD, as applicable.

(i) If any cracking is found for which the service bulletin specifies to contact Airbus: Before further flight, repair per a method approved by either the Manager, International Branch, ANM-116, Transport Airplane Directorate, FAA; or the Direction Générale de l'Aviation Civile (or its delegated agent).

No Reporting Required

(j) Airbus Service Bulletins A300-57-0240 and A300-57-6095, both Revision 01, both dated December 2, 2004, specify to submit certain information to the manufacturer, but this AD does not include that requirement.

Alternative Methods of Compliance (AMOCs)

(k) The Manager, International Branch, ANM-116, has the authority to approve AMOCs for this AD, if requested in accordance with the procedures found in 14 CFR 39.19.

Related Information

(l) French airworthiness directive F-2005-022, dated February 2, 2005, also addresses the subject of this AD.

Issued in Renton, Washington, on September 8, 2005.
Kalene C. Yanamura,
Acting Manager, Transport Airplane Directorate, Aircraft Certification Service.

[FR Doc. 05-18312 Filed 9-14-05; 8:45 am]

BILLING CODE 4910-13-P